DEPARTMENT OF THE INTERIOR

National Park Service

[N6770; NPS-WASO-NAGPRA-NPS0041537; PPWOCRADN0-PCU00RP14.R50000]

Notice of Intended Repatriation: Santa Cruz Museum of Natural History, Santa Cruz, CA

AGENCY: National Park Service, Interior.

ACTION: Notice.

SUMMARY: In accordance with the Native American Graves Protection and Repatriation Act (NAGPRA), the Santa Cruz Museum of Natural History intends to repatriate certain cultural items that meet the definition of sacred object and that have a cultural affiliation with the Indian Tribes or Native Hawaiian organizations in this notice.

DATES: Repatriation of the cultural items in this notice may occur on or after January 20, 2026.

ADDRESSES: Send additional, written requests for repatriation of the cultural items in this notice to Kathleen Aston, Santa Cruz Museum of Natural History, 1305 E Cliff Drive, Santa Cruz 95060, email collections@santacruzmuseum.org.

SUPPLEMENTARY INFORMATION: This notice is published as part of the National Park Service's administrative responsibilities under NAGPRA. The determinations in this notice are the sole responsibility of the Santa Cruz Museum of Natural History, and additional information on the determinations in this notice, including the results of consultation, can be found in the summary or related records. The National Park Service is not responsible for the determinations in this notice.

Abstract of Information Available

A total of three cultural items have been requested for repatriation. The three sacred objects are a makau (fishhook), kapa (bark cloth), and a moena lauhala (mat). The makau was collected by Dr. Alex H. Bailey around 1900, and then given to Laura Hecox of Santa Cruz, CA. The records for the kapa indicate that it was also collected about 1900 in Hawaii, and was at some point prior to 1905 given to Laura Hecox. The records for the moena lauhala indicate that it was collected in the “South Sea Islands” in the late 19th or early 20th century, and has subsequently been identified as Hawaiian in consultation with Hui Iwi Kuamo'o. The Santa Cruz Museum of Natural History has no records that indicate that any of these cultural items were treated with potentially hazardous substances.

Determinations

The Santa Cruz Museum of Natural History has determined that:

• The three sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Santa Cruz Museum of Natural History must determine the most appropriate requestor prior to repatriation. Requests for joint repatriation of the cultural items are considered a single request and not competing requests. The Santa Cruz Museum of Natural History is responsible for sending a copy of this notice to the Indian Tribes and Native Hawaiian organizations identified in this notice and to any other consulting parties.

Authority: Native American Graves Protection and Repatriation Act, 25 U.S.C. 3004 and the implementing regulations, 43 CFR 10.9.

Dated: December 4, 2025.
Melanie O'Brien,
Manager, National NAGPRA Program.

[FR Doc. 2025-23343 Filed 12-18-25; 8:45 am]

BILLING CODE 4312-52-P